ENVIRONMENTAL PROTECTION AGENCY

40 CFR Parts 52 and 81

[R05-OAR-2005-IL-0002; FRL-7972-7]

Designation of Areas for Air Quality Planning Purposes; Illinois; Lyons Township PM-10 Redesignation and Maintenance Plan

AGENCY: Environmental Protection Agency (EPA).

ACTION: Direct final rule.

SUMMARY: EPA is approving the State of Illinois' request to redesignate to attainment the Lyons Township (McCook) area currently designated as nonattainment of the National Ambient Air Quality Standard (NAAQS) for particulate matter with an aerodynamic diameter less than or equal to a nominal 10 micrometers (PM-10). We are also approving the Lyons Township maintenance plan, submitted by the Illinois Environmental Protection Agency (IEPA) on August 2, 2005, as a revision to the PM-10 State Implementation Plan (SIP) for this area.

DATES: This “direct final” rule is effective on November 21, 2005, unless EPA receives adverse written comments by October 24, 2005. If EPA receives adverse comment, it will publish a timely withdrawal of the rule in the Federal Register and inform the public that the rule will not take effect.

ADDRESSES: Submit comments, identified by Regional Material in EDocket (RME) ID No. R05-OAR-2005-IL-0002, by one of the following methods:

Federal eRulemaking Portal: http://www.regulations.gov. Follow the on-line instructions for submitting comments.

Agency Web site: http://docket.epa.gov/rmepub/. Regional RME, EPA's electronic public docket and comments system, is EPA's preferred method for receiving comments. Once in the system, select “quick search,” then key in the appropriate RME Docket identification number. Follow the on-line instructions for submitting comments.

E-mail: mooney.john@epa.gov.

Fax: (312) 886-5824.

Mail: You may send written comments to: John M. Mooney, Chief, Criteria Pollutant Section, (AR-18J), U.S. Environmental Protection Agency, 77 West Jackson Boulevard, Chicago, Illinois 60604.

Hand delivery: Deliver your comments to: John M. Mooney, Chief, Criteria Pollutant Section (AR-18J), U.S. Environmental Protection Agency, Region 5, 77 West Jackson Boulevard, 18th floor, Chicago, Illinois 60604. Such deliveries are only accepted during the Regional Office's normal hours of operation. The Regional Office's official hours of business are Monday through Friday, 8:30 AM to 4:30 PM excluding Federal holidays.

Instructions: Direct your comments to RME ID No. R05-OAR-2005-IL-0002. EPA's policy is that all comments received will be included in the public docket without change, including any personal information provided, unless the comment includes information claimed to be Confidential Business Information (CBI) or other information whose disclosure is restricted by statute. Do not submit information that you consider to be CBI or otherwise protected through RME, regulations.gov, or e-mail. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of the related proposed rule which is published in the Proposed Rules section of this Federal Register.

Docket: All documents in the electronic docket are listed in the RME index at http://docket.epa.gov/rmepub/. Although listed in the index, some information is not publicly available, i.e., CBI or other information whose disclosure is restricted by statute. Publicly available docket materials are available either electronically in RME or in hard copy at Environmental Protection Agency, Region 5, Air and Radiation Division, 77 West Jackson Boulevard, Chicago, Illinois 60604. We recommend that you telephone Christos Panos, Environmental Engineer, at (312) 353-8328 before visiting the Region 5 office. This Facility is open from 8:30 AM to 4:30 PM, Monday through Friday, excluding legal holidays.

FOR FURTHER INFORMATION CONTACT: Christos Panos, Environmental Engineer, Criteria Pollutant Section, Air Programs Branch (AR-18J), U.S. Environmental Protection Agency, Region 5, 77 West Jackson Boulevard, Chicago, Illinois 60604, (312) 353-8328. panos.christos@epa.gov.

SUPPLEMENTARY INFORMATION: Throughout this document whenever “we,” “us,” or “our” is used, we mean EPA. This supplemental information section is arranged as follows:

I. What Action Is EPA Taking?

II. What Is the Background for This Action?

III. Why Was This SIP Revision Submitted?

IV. What Requirements Must Be Met for Approval of a Redesignation, and How Did the State Meet Them?

A. Attainment of the PM-10 NAAQS

B. State Implementation Plan Approval

C. Improvement in Air Quality due to Permanent and Enforceable Measures

D. Applicable Requirements of Section 110 and Part D of the Act

1. Section 110 Requirements.

2. Part D Requirements.

E. Fully Approved Maintenance Plan Under Section 175A of the Act

1. Attainment Inventory.

2. Maintenance Demonstration and Verification of Continued Attainment.

3. Monitoring Network.

4. Contingency Plan.

V. Rulemaking Action

VI. Statutory and Executive Order Reviews

I. What Action Is EPA Taking?

We are approving the State of Illinois' request to redesignate the Lyons Township PM-10 nonattainment area to attainment of the PM-10 NAAQS that was submitted on August 2, 2005. We are also approving the maintenance plan for this area into the Illinois SIP.

II. What Is the Background for This Action?

On July 1, 1987 (52 FR 24634), EPA revised the NAAQS for particulate matter with the PM-10 indicator. (See 40 CFR 50.6). The 24-hour primary PM-10 standard is 150 micrograms per cubic meter (μg/m³), with no more than one expected exceedance per year. The annual primary PM-10 standard is 50 μg/m³, expected annual arithmetic mean averaged over three years. The secondary PM-10 standards are identical to the primary standards.

Under section 107(d)(4)(B) of the Clean Air Act (Act), as amended on November 15, 1990, certain areas were designated nonattainment for PM-10 and were classified as “moderate”. These initial areas included the Lyons Township, Illinois, PM-10 nonattainment area.

On July 18, 1997 (62 FR 38652), EPA added a fine particle NAAQS, for particulate matter less than 2.5 microns in aerodynamic diameter (PM2.5). EPA classified the Chicago metropolitan area, which includes the Lyons Township area, as a PM2.5 nonattainment area on January 5, 2005.

III. Why Was This SIP Revision Submitted?

IEPA believes that the Lyons Township PM-10 nonattainment area is eligible for redesignation because we have approved the PM-10 SIP for this area and monitoring data demonstrate that this area has been attaining the PM-10 NAAQS since 1995. Under a cover letter dated August 2, 2005 the State submitted a redesignation request for the Lyons Township PM-10 nonattainment area. A public hearing was held on June 21, 2005. The State did not receive any adverse comments during the public hearing or the 30-day comment period. The redesignation request contains text describing how the statutory requirements were met and consists primarily of a maintenance plan and air quality monitoring data for the area.

IV. What Requirements Must Be Met for Approval of a Redesignation, and How Did the State Meet Them?

Section 107(d)(3)(D) of the Act allows the Governor of a State to request the redesignation of an area from nonattainment to attainment. The criteria used to review redesignation requests are derived from the Act, the general preamble to Title I of the Clean Air Act Amendments of 1990 (57 FR 13498), and a September 4, 1992 policy and guidance memorandum entitled “Procedures for Processing Requests to Redesignate Areas to Attainment.” An area can be redesignated to attainment if the following conditions are met:

1. The area has attained the applicable NAAQS;

2. The area has a fully approved SIP under section 110(k) of the Act;

3. The air quality improvement must be permanent and enforceable;

4. The area has met all relevant requirements under section 110 and Part D of the Act;

5. The area must have a fully approved maintenance plan pursuant to section 175A of the Act.

A. Attainment of the PM-10 NAAQS

A state must demonstrate that an area has attained the PM-10 NAAQS through submittal of ambient air quality data from an ambient air monitoring network representing peak PM-10 concentrations. The data, which must be quality assured and recorded in the Aerometric Information Retrieval System (AIRS), must show that the average annual number of expected exceedances for the area is less than or equal to 1.0, pursuant to 40 CFR section 50.6. The data must represent the most recent three consecutive years of complete ambient air quality monitoring data collected in accordance with EPA methodologies.

The Cook County Department of Environmental Control currently operates two PM-10 monitoring sites in the Lyons Township nonattainment area under agreement with IEPA. The State submitted ambient air quality data and supporting documentation from each monitoring site for the 2001-2003 period demonstrating that the area has attained the PM-10 NAAQS. This air quality data was quality assured and placed in AIRS. There were no exceedances of the 24-hour or annual PM-10 NAAQS recorded at these monitors during this time period. Therefore, the State has adequately demonstrated, through ambient air quality data, that the PM-10 NAAQS has been attained in Lyons Township, with 2003 as the attainment year.

B. State Implementation Plan Approval

Those States containing initial moderate PM-10 nonattainment areas were required to submit by November 15, 1991 a SIP which implemented reasonably available control measures (RACM) by December 10, 1993 and demonstrated attainment of the PM-10 NAAQS by December 31, 1994. In order to be redesignated, the SIP for the area must be fully approved under section 110(k) of the Act, and must satisfy all requirements that apply to the area. Illinois submitted the required SIP revisions for the Lyons Township PM-10 nonattainment area on May 15, 1992. Upon review of Illinois' submittal, we identified several concerns. Illinois submitted a letter on March 2, 1994, committing to satisfy all of these concerns within one year of final conditional approval. On May 25, 1994, we proposed to conditionally approve the SIP (59 FR 26988). Final conditional approval was published on November 18, 1994 (59 FR 59653). Illinois made several submittals to correct the remaining deficiencies and meet all of the commitments of the conditional approval. EPA fully approved the Lyons Township PM-10 nonattainment area SIP on September 8, 1998 (63 FR 47431). With this approval, Illinois had fulfilled all Clean Air Act requirements for Part D plans for the Lyons Township moderate PM-10 nonattainment area.

C. Improvement in Air Quality Due to Permanent and Enforceable Measures

The State must be able to reasonably attribute the improvement in air quality to permanent and enforceable emission reductions. In making this showing, the State must demonstrate that air quality improvements are the result of actual, enforceable emission reductions.

The State provided a discussion of the PM-10 emission reductions in Lyons Township for the years 1993-2003. PM-10 emissions dropped significantly in the area in 1994 as a result of the control measures included in the PM-10 SIP approved by EPA in 1998. The State has adequately demonstrated in its submittal that the improvement in air quality is due to permanent and enforceable emission reductions of over 1500 tons per year of PM-10 in Lyons Township as a result of implementing the federally enforceable control measures in the SIP.

D. Applicable Requirements of Section 110 and Part D of the Act

To be redesignated to attainment, section 107(d)(3)(E) requires that an area must have met all applicable requirements of section 110 and of part D of the Act. The EPA interprets this to mean that for a redesignation request to be approved, the State must have met all requirements that applied to the subject area prior to or at the time of a complete redesignation request.

1. Section 110 Requirements. Section 110(a)(2) contains general requirements for nonattainment plans. For purposes of redesignation, the Illinois SIP was reviewed to ensure that all applicable requirements under the amended Act were satisfied. Title 40 CFR Part 52, subpart O, further evidences that the Illinois SIP was approved under section 110 of the Act and, we have found that the SIP satisfies all Part D requirements.

2. Part D Requirements. Before a PM-10 nonattainment area may be redesignated to attainment, the State must have fulfilled the applicable requirements of Part D. Subpart 1 of Part D establishes the general requirements applicable to all nonattainment areas and subpart 4 of Part D establishes specific requirements applicable to PM-10 nonattainment areas.

The requirements of sections 172(c) and 189(a) regarding attainment of the PM-10 NAAQS, and the requirements of section 172(c) regarding reasonable further progress, imposition of RACM, the adoption of contingency measures, and the submission of an emission inventory have been satisfied through the 1998 approval of the Lyons Township PM-10 SIP (63 FR 47431). The requirements of the Part D—New Source Review (NSR) permit program will be replaced by the Part C—Prevention of Significant Deterioration (PSD) program for major new sources of PM-10 once the area has been redesignated. Because the PSD program was delegated to the State of Illinois on February 28, 1980, and amended on November 17, 1981, it will become fully effective immediately upon redesignation. However, because this area is included within the Chicago PM2.5 nonattainment area, the requirements of the Part D NSR permit program will also continue to apply to new or modified sources of particulate matter, with the exception that PM2.5 will now be the indicator for particulate matter rather than PM-10.

E. Fully Approved Maintenance Plan Under Section 175A of the Act

Section 175A of the Act requires states that submit a redesignation request for a nonattainment area under section 107(d) to include a maintenance plan to ensure that the attainment of NAAQS for any pollutant is maintained. The plan must demonstrate continued attainment of the applicable NAAQS for at least ten years after the approval of a redesignation to attainment. Eight years after the redesignation, the State must submit a revised maintenance plan demonstrating attainment for the ten years following the initial ten year period. The basic components needed to ensure proper maintenance of the NAAQS are: attainment inventory, maintenance demonstration, verification of continued attainment, commitment to maintain the ambient air monitoring network, and a contingency plan. EPA is approving the Lyons Township maintenance plans as discussed below.

1. Attainment Inventory. Appendix B of the state's August 2, 2005 submittal contains an inventory of the reported 2003 PM-10 emissions for industrial facilities located in the Lyons Township nonattainment area.

2. Maintenance Demonstration and Verification of Continued Attainment. The State of Illinois has adequately demonstrated attainment and maintenance of the PM-10 NAAQS through its commitment to maintain the existing control requirements for point sources and fugitive dust sources contained in the PM-10 SIP for this area. Illinois is required to submit to EPA any changes to its rules or emission limits applicable to PM-10 sources in Lyons Township for approval as a revision to the SIP, and will include, where appropriate, a demonstration that the changes will not interfere with maintenance of the PM-10 NAAQS. Further, projected emission trends for the years 2002-2014 from EPA's Nonroad emission model and EPA's Mobile 6.2 emission model both indicate that projected PM-10 emissions for both on-road and off-road mobile sources will decrease significantly over the next ten year period. For off-road sources in Cook County, the modeling predicts a decrease of over 650 tons/year of PM-10 in 2014 from 2002 levels. For on-road sources in Cook County, the modeling predicts a decrease of over 60 tons/year of PM-10 in 2014 from 2002 levels. The maintenance plan for this area also contains a commitment from the State to revise and submit a new maintenance plan within eight years of approval of this redesignation. In addition, Illinois will be required to develop and implement a plan to address PM2.5 that will further improve air quality for particulate matter in this area. Future emission reductions needed to attain the PM2.5 NAAQS will also help to ensure continued attainment of the PM-10 NAAQS in the Lyons Township areas.

3. Monitoring Network. Once an area has been redesignated, the State must continue to operate an appropriate air quality monitoring network, in accordance with 40 CFR part 58, to verify the attainment status of the area. The maintenance plan should contain provisions for continued operation of air quality monitors that will provide such verification. In its submittal, the State commits to continue to operate and maintain the network of PM-10 monitoring stations to demonstrate ongoing compliance with the PM-10 NAAQS. IEPA will consult with EPA Region 5 staff prior to making any changes to the existing monitoring network should changes be necessary in the future.

4. Contingency Plan. Section 175A of the Act also requires that a maintenance plan include contingency measures, as necessary, to promptly correct any violation of the NAAQS that occurs after redesignation of the area. These contingency measures are distinguished from those generally required for nonattainment areas under section 172(c)(9). However, if an area has been able to attain the NAAQS without implementation of the Part D nonattainment SIP contingency measures, and the contingency plan includes a requirement that the State will implement all of the PM-10 control measures which were contained in the SIP before redesignation to attainment, then the State can carry over into the area's maintenance plan the Part D SIP measures not previously implemented.

IEPA will rely on ambient air monitoring data in the Lyons Township area to track compliance with the PM-10 NAAQS and to determine the need to implement contingency measures. In the event that an exceedance of the PM-10 NAAQS occurs, the State will expeditiously investigate and determine the source(s) that caused the exceedance and/or violation, and enforce any SIP or permit limit that is violated. If there is a violation of the PM-10 NAAQS, and it is not due to an exceptional event, malfunction, or noncompliance with a permit condition or rule requirement, IEPA will determine additional control measures needed to assure future attainment of the PM-10 NAAQS. Control measures that can be implemented in a short time will be selected in order to be in place within eighteen (18) months from the time that IEPA determined that a violation occurred. Although the point sources listed in the inventory will be the primary focus, the possibility that the problem is attributable to new or previously unknown PM-10 sources will be considered. Illinois will submit to EPA an analysis to demonstrate that the proposed measures are adequate to return the area to attainment. Adoption of any additional control measures is subject to the necessary administrative and legal process. This process will include publication of notices, an opportunity for public hearing, and other measures required by Illinois law.

V. Rulemaking Action

EPA is approving the State of Illinois' request to redesignate the Lyons Township (McCook) PM-10 nonattainment area to attainment. EPA is also approving Illinois' maintenance plan for the Lyons Township nonattainment area as a SIP revision because it meets the requirements of section 175A of the Act. We are publishing this action without prior proposal because we view this as a noncontroversial amendment and anticipate no adverse comments. However, in the proposed rules section of this Federal Register publication, we are publishing a separate document that will serve as the proposal to approve the state plan if relevant adverse written comments are filed. This rule will be effective November 21, 2005 without further notice unless we receive relevant adverse written comments by October 24, 2005. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective November 21, 2005.

VI. Statutory and Executive Order Reviews

Executive Order 12866; Regulatory Planning and Review

Under Executive Order 12866 (58 FR 51735, October 4, 1993), this action is not a “significant regulatory action” and therefore is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves State law as meeting Federal requirements and imposes no additional requirements beyond those imposed by State law. Accordingly, the Administrator certifies that this rule will not have a significant economic impact on a substantial number of small entities under the Regulatory Flexibility Act (5 U.S.C. 601 et seq.).

Unfunded Mandates Reform Act

Because this rule approves pre-existing requirements under State law and does not impose any additional enforceable duty beyond that required by State law, it does not contain any unfunded mandate or significantly or uniquely affect small governments, as described in the Unfunded Mandates Reform Act of 1995 (Pub. L. 104-4).

Executive Order 13175 Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132 Federalism

This action also does not have federalism implications because it does not have substantial direct effects on the States, on the relationship between the National Government and the States, or on the distribution of power and responsibilities among the various levels of government, as specified in Executive Order 13132 (64 FR 43255, August 10, 1999). This action merely approves a state rule implementing a federal standard, and does not alter the relationship or the distribution of power and responsibilities established in the Clean Air Act.

Executive Order 13045 Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 21, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Intergovernmental relations, Particulate matter, Reporting and recordkeeping requirements.

40 CFR Part 81

Air pollution control, National parks, Wilderness areas.

Dated: September 13, 2005.
Bharat Mathur,
Acting Regional Administrator, Region 5.

40 CFR parts 52 and 81 are amended as follows:

PART 52—APPROVAL AND PROMULGATION OF IMPLEMENTATION PLANS

Subpart O—Illinois

1. The authority citation for part 52 continues to read as follows:

Authority: 42 U.S.C. 7401 et seq.

2. Section 52.725 is amended by adding a new paragraph (h) to read as follows:

§ 52.725 Control Strategy: Particulates.

* * * * *

(h) Approval—On August 2, 2005, the State of Illinois submitted a request to redesignate the Lyons Township (McCook), Cook County particulate matter nonattainment area to attainment of the NAAQS for particulate matter with an aerodynamic diameter less than or equal to a nominal 10 micrometers (PM-10). In its submittal, the State also requested that EPA approve the maintenance plan for the area into the Illinois PM SIP. The redesignation request and maintenance plan meet the redesignation requirements of the Clean Air Act.

PART 81—DESIGNATION OF AREAS FOR AIR QUALITY PLANNING PURPOSES

1. The authority citation for part 81 continues to read as follows:

Authority: 42 U.S.C. 7401 et seq.

2. In § 81.314, the table entitled “Illinois PM-10” is amended by revising the entry a. Lyons Township to read as follows:

§ 81.314 Illinois.

* * * * *

Illinois—PM-10
Designated area | Designation: Date | Designation: Type | Classification: Date | Classification: Type
Cook County:
a. Lyons Township | 11/21/2005 | Attainment.
* * * * * * *

* * * * *

[FR Doc. 05-18958 Filed 9-21-05; 8:45 am]

BILLING CODE 6560-50-P